DEPARTMENT OF TRANSPORTATION

Federal Aviation Administration

Notice of Intent To Rule on Application To Impose and Use the Revenue From a Passenger Facility Charge (PFC) at Key West International Airport, Key West, FL

AGENCY: Federal Aviation Administration (FAA), DOT

ACTION: Notice of intent to rule on application.

SUMMARY: The FAA proposes to rule and invites public comment on the application to impose and use the revenue from a PFC at Key West International Airport under the provisions of the Aviation Safety and Capacity Expansion Act of 1990 (Title IX of the Omnibus Budget Reconciliation Act of 1990) (Public Law 101-508) and part 158 of the Federal Aviation Regulations (14 CFR part 158).

DATES: Comments must be received on or before September 7, 2004.

ADDRESSES: Comments on this application may be mailed or delivered in triplicate to the FAA at the following address: Orlando Airports District Office, 5950 Hazeltine National Drive, Suite 400, Orlando, Florida 32822.

In addition, one copy of any comments submitted to the FAA must be mailed or delivered to Peter Horton, Director of Airports of the Monroe County Board of County Commissioners at the following address: Key West International Airport, 3491 S. Roosevelt Boulevard, Key West, Florida 33040.

Air carriers and foreign air carriers may submit copies of written comments previously provided to the Monroe County Board of County Commissioners under section 158.23 of part 158.

FOR FURTHER INFORMATION CONTACT: Susan Moore, Program Manager, Orlando Airports District Office, 5950 Hazeltine National Drive, Suite 400, Orlando FL 32822, (407) 812-6331, extension 120. The application may be reviewed in person at this same location.

SUPPLEMENTARY INFORMATION: The FAA proposes to rule and invites public comment on the application to impose and use the revenue from a PFC at key West International Airport under the provisions of the Aviation Safety and Capacity Expansion Act of 1990 (Title IX of the Omnibus Budget Reconciliation Act of 1990) (Public Law 101-508) and part 158 of the Federal Aviation Regulations (14 CFR part 158).

On July 23, 2004, the FAA determined that the application to impose and use the revenue from a PFC submitted by Monroe County Board of County Commissioners was substantially complete within the requirements of section 158.25 of part 158. The FAA will approve or disapprove the application, in whole or in part, no later than November 12, 2004.

The following is a brief overview of the application.

PFC Application No.: 04-08-C-00-EYW.

Level of the proposed PFC: $4.50.

Proposed charge effective date: February 1, 2005.

Proposed charge expiration date: July 1, 2005.

Total estimated net PFC revenue: $425,250.

Brief description of proposed project(s): PFC Application; Noise Mitigation, Phase 4 (50 homes, Design and Construction); Noise Contour Update #5; Safety Area Runway 9/2736, Phase 2 (Construction); New Terminal Development (Construction); Rehabilitate Existing Terminal (Customs Building); Rehabilitate Taxiway Pavement; New Terminal Development (Design and Permitting); Wildlife Study; Acquire Pavement Sweeper; Acquire Land for Runway 27 Protection Zone; Sealcoat and Mark Ramps; Environmental Mitigation-Mosquito Ditches; Install Perimeter Fencing; Rehabilitate Terminal Canopy (at Florida Keys Marathon Airport, MTH); Install (31) and Relocate (4) Taxiway Guidance Signs (MTH); Install Taxiway D and E Medium Intensity Lighting (MTH); Update Airport Layout Plan (MTH).

Class or classes of air carriers which the public agency has requested not be required to collect PFCs: Commercial Air Carriers with less than one percent (1%) of total passenger enplanements.

Any person may inspect the application in person at the FAA office listed above under FOR FURTHER INFORMATION CONTACT.

In addition, any person may, upon request, inspect the application, notice and other documents germane to the application in person at the Monroe County Board of County Commissioners.

Issued in Orlando, Florida, on July 30, 2004.
Matthew J. Thys,
Acting Manager, Orlando Airports District Office, Southern Region.

[FR Doc. 04-17926 Filed 8-4-04; 8:45 am]

BILLING CODE 4910-13-M